DEPARTMENT OF COMMERCE

National Oceanic and Atmospheric Administration

50 CFR Part 300

[Docket No. 240130-0031]

RIN 0648-BM75

Pacific Halibut Fisheries of the West Coast; 2024 Catch Sharing Plan and Recreational Fishery Management Measures

AGENCY: National Marine Fisheries Service (NMFS), National Oceanic and Atmospheric Administration (NOAA), Commerce.

ACTION: Proposed rule; request for comments.

SUMMARY: NMFS proposes to approve changes to the Pacific Halibut Catch Sharing Plan for the International Pacific Halibut Commission's regulatory Area 2A off Washington, Oregon, and California. In addition, NMFS proposes to implement new management measures for the 2024 recreational fisheries in Area 2A that are not implemented through the International Pacific Halibut Commission (IPHC). These measures include the recreational fishery seasons and subarea allocations for Area 2A. This action would also add a new inseason management provision to transfer anticipated uncaught recreational fishery allocation between states. Additionally, this action proposes to establish a new management line at Point Arena, CA, creating two subareas with separate allocations off California. These actions are intended to conserve Pacific halibut and provide angler opportunity where available.

DATES: Comments on the proposed rule must be received on or before March 11, 2024.

ADDRESSES: Submit your comments, identified by NOAA-NMFS-2024-0014, by either of the following methods:

• Electronic Submission: Submit all electronic public comments via the Federal e-Rulemaking Portal. Go to https://www.regulations.gov and enter NOAA-NMFS-2024-0014 in the Search box. Click on the “Comment” icon, complete the required fields, and enter or attach your comments.

• Mail: Submit written comments to Jennifer Quan, Regional Administrator, c/o Melissa Mandrup, West Coast Region, NMFS, 501 W Ocean Blvd., Long Beach, CA 90802.

Instructions: NMFS may not consider comments if they are sent by any other method, to any other address or individual, or received after the comment period ends. All comments received are a part of the public record and NMFS will post them for public viewing on https://www.regulations.gov without change. All personal identifying information (e.g., name, address, etc.), confidential business information, or otherwise sensitive information submitted voluntarily by the sender is publicly accessible. NMFS will accept anonymous comments (enter “N/A” in the required fields if you wish to remain anonymous).

Docket: This rule is accessible via the internet at the Office of the Federal Register website at https://www.federalregister.gov. Background information and documents are available at the NMFS West Coast Region Pacific Halibut Recreational Fishery website at https://www.fisheries.noaa.gov/action/2023-pacific-halibut-recreational-fishery and at the Council's website at http://www.pcouncil.org. Other comments received may be accessed through Regulations.gov.

FOR FURTHER INFORMATION CONTACT: Melissa Mandrup, phone: 562-980-3231 or email: melissa.mandrup@noaa.gov.

SUPPLEMENTARY INFORMATION:

Background

The Northern Pacific Halibut Act of 1982 (Halibut Act), 16 U.S.C. 773-773k, gives the Secretary of Commerce responsibility for implementing the provisions of the Convention between Canada and the United States for the Preservation of the Halibut Fishery of the North Pacific Ocean and Bering Sea (Halibut Convention), signed at Ottawa, Ontario, on March 2, 1953, as amended by a Protocol Amending the Convention (signed at Washington, DC, on March 29, 1979). The Halibut Act requires that the Secretary of Commerce adopt regulations to carry out the purposes and objectives of the Halibut Convention and Halibut Act (16 U.S.C. 773c). Additionally, as provided in the Halibut Act, the regional fishery management councils having authority for the geographic area concerned may develop, and the Secretary of Commerce may implement, regulations governing Pacific halibut fishing in in U.S. waters that are in addition to, and not in conflict with, approved International Pacific Halibut Commission (IPHC) regulations (16 U.S.C. 773c(c)).

At its annual meeting January 22-26, 2024, the IPHC recommended an Area 2A catch limit also known as the Fishery Constant Exploitation Yield (FCEY) for 2024. This FCEY is derived from the total constant exploitation yield (TCEY) for Pacific halibut, which includes commercial discards and bycatch estimates calculated using a formula developed by the IPHC. The 2024 TCEY and FCEY for Area 2A will be published as part of a separate rulemaking.

As provided in the Halibut Act at 16 U.S.C. 773b, the Secretary of State, with the concurrence of the Secretary of Commerce, may accept or reject, on behalf of the United States, regulations recommended by the IPHC in accordance with the Convention. Following acceptance by the Secretary of State, the annual management measures promulgated by the IPHC are published in the Federal Register to provide notice of their immediate regulatory effectiveness and to inform persons subject to the regulations of their restrictions and requirements (50 CFR 300.62). Allocations based on IPHC's recommended 2024 Area 2A FCEY will be subject to acceptance by the Secretary of State with concurrence by the Secretary of Commerce and will be included in the final rule.

Since 1988, the Pacific Fishery Management Council (Council) has developed a Catch Sharing Plan that allocates the IPHC regulatory Area 2A Pacific halibut FCEY between treaty tribal and non-tribal harvesters, and among non-tribal commercial and recreational (sport) fisheries. NMFS has implemented at 50 CFR 300.63 et seq. certain provisions of the Catch Sharing Plan and implemented annual rules containing annual management measures consistent with the Catch Sharing Plan. In 1995, the Council recommended and NMFS approved a long-term Area 2A Catch Sharing Plan (60 FR 14651, March 20, 1995). NMFS has been approving adjustments to the Area 2A Catch Sharing Plan based on Council recommendations each year to address the changing needs of these fisheries. While the full Catch Sharing Plan is not published in the Federal Register, it is made available on the Council website.

This rule proposes to approve the changes the Council recommended at its November 2023 meeting to the Catch Sharing Plan for Area 2A. The recommended changes to the Catch Sharing Plan were developed through the Council's public process over multiple meetings. This rule also proposes to implement recreational Pacific halibut fishery management measures for 2024, which include season opening and closing dates. These management measures are consistent with the recommendations made by the Council in the 2024 Catch Sharing Plan as modified based on its 2023 recommendations and are detailed below.

Proposed Changes to the Area 2A Catch Sharing Plan

Each year at the Council's September meeting, members of the public have an opportunity to propose changes to the Catch Sharing Plan for consideration by the Council. At the September 2023 Council meeting, per the typical annual process, the Washington Department of Fish and Wildlife (WDFW), Oregon Department of Fish and Wildlife (ODFW), and California Department of Fish and Wildlife (CDFW) proposed changes to the Catch Sharing Plan for the fisheries that occur off of their respective coasts.

At its November 2023 meeting, the Council considered the results of state-sponsored workshops on the proposed changes to the Catch Sharing Plan, along with public input provided at the September and November 2023 Council meetings, and made its recommendations for modifications to the Catch Sharing Plan. NMFS proposes to approve all the Council's recommended changes to the Catch Sharing Plan, which are discussed below.

1. In multiple sections of the Catch Sharing Plan, the Council recommended administrative changes to the management objectives and fishery flexibility language contained in the Catch Sharing Plan. These changes are intended to provide consistency and clarity throughout the document. The Council also recommended changes to section 5.7.5 that would allow incidental retention of Pacific halibut to continue in the salmon troll fishery beyond June 30 without the need for NMFS to specifically notice that continuation, improving efficiency.

2. In section 6.8 of the Catch Sharing Plan, the Council recommended creating a new management provision that would allow NMFS to take inseason action to reallocate or transfer recreational fishery allocation between states if one or more states was projected to not fully attain their recreational fishery allocation for the current season. This new proposed type of inseason action is intended to allow greater utilization of overall Area 2A recreational allocation by providing additional angler opportunity later in the season across a larger portion of the coast.

3. The Council recommended changes to Section 5.6.4 of the Catch Sharing Plan regarding the notice and timing of non-tribal directed commercial fishery sequential season openings. Specifically, NMFS proposes to announce one or two open periods for the non-tribal directed commercial fishery each year, with intervals between open periods anticipated to be 2 to 4 weeks. The intent of this change is to allow more stability and certainty for the fishery participants as the season progresses. Management measures regulating the non-tribal directed commercial fishery are typically established through a separate rulemaking in the spring of each year.

4. In section 6.9.1(d) of the Catch Sharing Plan, the Council recommended that NMFS revise the season structure in the Washington Puget Sound subarea to allow fishing up to 7 days per week in April, May, and June if the Area 2A FCEY is at least 1.3 million pounds (lbs, 589.7 metric tons (mt)); if the Area 2A FCEY is less than 1.3 million lbs (589.7 mt), then seasons may be open up to 5 days per week in April, May and June.

5. In section 6.9.2(d) of the Catch Sharing Plan, the Council recommended that NMFS revise the season structure in the Washington North Coast subarea to allow fishing up to 3 days per week in May if the Area 2A FCEY is at least 1.3 million lbs (589.7 mt); and if the Area 2A FCEY is less than 1.3 million lbs (589.7 mt), then allowing fishing up to 2 days per week.

6. In section 6.9.3(d) of the Catch Sharing Plan, the Council recommended that NMFS revise the season structure in the Washington South Coast subarea to allow fishing up to 3 days per week in May and 8 days in June if sufficient subarea allocation remains after April 30.

7. In section 6.10 of the Catch Sharing Plan, the Council recommended that NMFS revise the season structure in the Columbia River subarea to allow fishing during May and June.

8. In section 6.11(d)(ii) of the Catch Sharing Plan, the Council recommended that NMFS revise the season structure in the Oregon central coast subarea Spring all-depth fishery to allow additional dates to be established every week, as opposed to every other week, except week(s) may be skipped to avoid adverse tidal conditions. The potential additional dates will be identified preseason and may be opened if enough subarea allocation is available to allow for additional fishing days after the spring season.

9. In section 6.12 of the Catch Sharing Plan, the Council recommended that NMFS establish a new management line at Point Arena, California (38°57.5′ N lat.), to create two subareas off California, along with a criteria and management framework for the newly established subarea south of Point Arena, California. The area between the Oregon/California border (42°00.00′ N lat.) and Point Arena would be called the Northern California Coast subarea. The area south of Point Arena would be called the South of Point Arena subarea. Sections 6.12.1 and 6.12.2 of the Catch Sharing Plan were created to describe the management measures for the Northern California Coast subarea and South of Point Arena subarea, respectively. New management measures for the proposed subareas include 500 lbs (0.23 mt) of the California recreational fishery allocation to be assigned to the South of Point Arena subarea, with the remaining California recreational fishery allocation to be assigned to the Northern California Coast subarea. The South of Point Arena subarea will be open from May 1 to December 31 or until the 500 lbs (0.23 mt) have been caught with a one-fish daily bag limit. The Northern California Coast subarea will be open May 1 and closing November 15, or until the allocation has been attained, and a one-fish daily bag limit.

Additional discussion of these changes is included in the materials submitted to the Council at its September and November meetings, available at https://www.pcouncil.org/council-meetings/previous-meetings/. A version of the Catch Sharing Plan including these changes can be found at https://www.pcouncil.org/managed_fishery/pacific-halibut/.

Proposed 2024 Recreational Fishery Management Measures

As described above, NMFS proposes to implement recreational fishery management measures, including season dates for the 2024 fishery, consistent with the Council's recommendations in the 2024 Catch Sharing Plan. The Catch Sharing Plan includes a framework for setting days open for fishing by subarea; under this framework, each state submits final recommended season dates annually to NMFS during the proposed rule comment period. However, this proposed rule contains preliminary dates based on the Catch Sharing Plan framework and/or recommendations received to date.

After the opportunity for public comment, including comments from WDFW, ODFW, and CDFW after each state has concluded its public meetings gathering input on season dates, NMFS will publish a final rule approving the Catch Sharing Plan and promulgating the annual management measures for the Area 2A recreational fishery, as required by implementing regulations at 50 CFR 300.63(b)(1). If there is any discrepancy between the Catch Sharing Plan and federal regulations, federal regulations take precedence.

2024 Annual Recreational Management Measures

NMFS proposes recreational fishing subareas, allocations, and fishing dates as described below. These provisions may be modified through inseason action consistent with 50 CFR 300.63(c). Inseason actions taken by NMFS will be published in the Federal Register. In addition to publication in the Federal Register, NMFS will make the public aware of inseason management actions by a telephone hotline, (206) 526-6667 or (800) 662-9825, and fishery bulletins administered through email by NMFS West Coast Region. Since provisions of these regulations may be changed by inseason actions, recreational anglers are encouraged to monitor the telephone hotline and subscribe to receive fishery bulletin emails for current information for the area in which they are fishing. All recreational fishing in Area 2A is managed on a “port of landing” basis, whereby any Pacific halibut landed into a port counts toward the allocation for the area in which that port is located, and the regulations governing the area of landing apply, regardless of the specific area of catch.

Washington Puget Sound and the U.S. Convention Waters in the Strait of Juan de Fuca

The subarea allocation for landings into ports in Puget Sound and the U.S. waters in the Strait of Juan de Fuca will be provided in the final rule based on the allocation formula in the Catch Sharing Plan.

(a) If the 2024 Area 2A FCEY is 1.3 million lbs (589.7 mt) or greater, NMFS is proposing to open the Puget Sound and the U.S. Convention Waters in the Strait of Juan de Fuca fishery on April 4 through June 30, 7 days a week. If the subarea allocation remains for at least another full day of fishing after June 30, NMFS may take inseason action to reopen the fishery in August, up to 7 days per week, through September. The area will be closed when there is not sufficient subarea allocation for another full day of fishing. If the 2024 Area 2A FCEY is less than 1.3 million lbs (589.7 mt), then NMFS proposes to open the fishery every Thursday, Friday, Saturday, Sunday, and Monday from April 4 through June 30. If the subarea allocation remains for at least another full day of fishing after June 30, NMFS may take inseason action to reopen the fishery in August, up to 7 days per week, through September. The area will be closed when there is not sufficient subarea allocation for another full day of fishing. Any inseason action, including closures, will be announced in accordance with Federal regulations at 50 CFR 300.63(c) and on the NMFS hotline at (206) 526-6667 or (800) 662-9825.

(b) The daily bag limit is one Pacific halibut of any size per person.

Washington North Coast Subarea

The allocation for landings into ports in the Washington North Coast subarea will be provided in the final rule based on the allocation formula in the Catch Sharing Plan.

(a) If the Area 2A 2024 FCEY is greater than 1.3 million lbs (589.7 mt), NMFS is proposing to open the Washington North Coast fishery:

• every Thursday, Friday, and Saturday from May 2 through May 18;

• Friday, May 24 and Sunday, May 26; and

• every Thursday, Friday, Saturday, and Sunday from May 30 through June 30.

If the subarea allocation remains for at least another full day of fishing after June 30, NMFS may take inseason action to reopen the fishery in August, up to 7 days per week, through September. The area will be closed when there is not sufficient subarea allocation for another full day of fishing. Any inseason action, including closures, will be announced in accordance with Federal regulations at 50 CFR 300.63(c) and on the NMFS hotline at (206) 526-6667 or (800) 662-9825. If the 2024 Area 2A FCEY is less than 1.3 million lbs (589.7 mt), then NMFS is proposing to open the fishery:

• every Thursday and Saturday from May 2 through May 20;

• Friday, May 24 and Sunday, May 26;

• and every Thursday, Friday, Saturday, and Sunday from May 30 through June 30.

If the subarea allocation remains for at least another full day of fishing after June 30, NMFS may take inseason action to reopen the fishery in August, up to 7 days per week, through September. The area will be closed when there is not sufficient subarea allocation for another full day of fishing. Any inseason action, including closures, will be announced in accordance with Federal regulations at 50 CFR 300.63(c) and on the NMFS hotline at (206) 526-6667 or (800) 662-9825.

(b) The daily bag limit is one Pacific halibut of any size per person.

Washington South Coast Subarea

The allocation for landings into ports in the South Coast subarea will be provided in the final rule based on the allocation formula in the Catch Sharing Plan. The South Coast subarea has a primary and a nearshore fishery.

(a) NMFS is proposing to open the Washington South Coast primary fishery every Thursday, Sunday, and Tuesday from May 2 through May 21 and on Thursday, May 23. If sufficient subarea allocation remains, the primary fishery will reopen June 13, 16, 18, 20, 23, 25, 27, and 30 or until there is not sufficient subarea allocation for another full day of fishing. If the subarea allocation remains for at least another full day of fishing after June 30, NMFS may take inseason action to reopen the fishery in August, up to 7 days per week, through September. The area will be closed when there is not sufficient subarea allocation for another full day of fishing. Any inseason action, including closures, will be announced in accordance with Federal regulations at 50 CFR 300.63(c) and on the NMFS hotline at (206) 526-6667 or (800) 662-9825.

When the South Coast subarea primary fishery does not have sufficient allocation to open for at least another full day of fishing, any remaining primary fishery allocation will be used to open a nearshore fishery. The nearshore fishery will open the first Saturday after the closure of the primary fishery and will be open 7 days per week until there is not sufficient nearshore fishery allocation remaining for another full day of fishing, at which point the area will be closed. Any inseason action will be announced in accordance with Federal regulations at 50 CFR 300.63(c) and on the NMFS hotline at (206) 526-6667 or (800) 662-9825.

If the primary fishery is closed prior to September 30 and there is not sufficient allocation remaining for at least a full day of fishing in the nearshore fishery, NMFS may take inseason action to transfer any remaining subarea allocation to another Washington coastal subarea, in accordance with Federal regulations at 50 CFR 300.63(c).

(b) The daily bag limit is one Pacific halibut of any size per person.

Columbia River Subarea

The allocation for landings into ports in the Columbia River subarea will be provided in the final rule based on the allocation formula in the Catch Sharing Plan. The Columbia River subarea has an all-depth fishery and a nearshore fishery.

(a) For the all-depth fishery, NMFS proposes to open the fishery as follows:

• every Thursday, Sunday, and Tuesday from May 2 through May 21;

• Thursday, May 23 and Sunday, May 26; and

• every Thursday, Sunday, and Tuesday from May 30 through June 30.

If the subarea allocation remains for at least another full day of fishing after June 30, NMFS may take inseason action to reopen the fishery in August, up to 7 days per week, through September. The area will be closed when there is not sufficient subarea allocation for another full day of fishing. Any remaining subarea allocation may be transferred inseason to other Washington or Oregon subareas by NMFS in proportion to the allocation formula in the Catch Sharing Plan, in accordance with Federal regulations at 50 CFR 300.63(c). Any inseason action, including closures and reallocation, will be announced in accordance with Federal regulations at 50 CFR 300.63(c) and on the NMFS hotline at (206) 526-6667 or (800) 662-9825.

For the nearshore fishery, NMFS is proposing to open the fishery every Monday, Tuesday, and Wednesday from May 6 through September 30 until there is not sufficient nearshore fishery allocation remaining for another full day of fishing, at which point the area will be closed. Any closure will be announced in accordance with Federal regulations at 50 CFR 300.63(c)(3) and on the NMFS hotline at (206) 526-6667 or (800) 662-9825.

(b) The daily bag limit is one Pacific halibut of any size per person.

Oregon Central Coast Subarea

The allocation for landings into ports in the Oregon Central Coast subarea will be provided in the final rule based on the allocation formula in the Catch Sharing Plan. The Oregon Central Coast subarea has a nearshore, a spring all-depth, and a summer all-depth fishery.

(a) The allocation to the nearshore fishery will be provided in the final rule based on the allocation formula in the Catch Sharing Plan. NMFS is proposing to open the nearshore fishery 7 days per week from May 1 through October 31 if the nearshore fishery allocation is 25,000 lbs (11.3 mt) or more or from June 1 through October 31 if the nearshore fishery allocation is less than 25,000 lbs (11.3 mt). The area will be closed when there is not sufficient subarea allocation for another full day of fishing. Any closure will be announced in accordance with Federal regulations at 50 CFR 300.63(c)(3) and on the NMFS hotline at (206) 526-6667 or (800) 662-9825.

The allocation to the spring all-depth fishery will be provided in the final rule based on the allocation formula in the Catch Sharing Plan. If the spring all-depth fishery the allocation is greater than 100,000 lbs (45.4 mt), NMFS is proposing to open the spring all-depth fishery up to 7 days per week from May 1 through July 31. The area will be closed when there is not sufficient subarea allocation for another full day of fishing. If the spring all-depth fishery allocation is 100,000 lbs (45.4 mt) or less, NMFS is proposing to open the fishery every Thursday, Friday and Saturday from May 9 through July. The area will close when there is not sufficient subarea allocation for another full day of fishing. Any closure will be announced in accordance with Federal regulations at 50 CFR 300.63(c)(3) and on the NMFS hotline at (206) 526-6667 or (800) 662-9825.

The allocation to the summer all-depth fishery will be provided in the final rule based on the allocation formula in the Catch Sharing Plan. If the overall Area 2A allocation is 700,000 lbs (317.5 mt) or greater and the summer all-depth fishery allocation is less than 60,000 lbs (27.2 mt), NMFS is proposing to open the summer all-depth fishery every Friday and Saturday from August 2 through October 31. The area will close when there is not sufficient subarea allocation for another full day of fishing. If the summer all-depth fishery allocation is 60,000 lbs (27.2 mt) or greater, NMFS proposes to open the summer all-depth fishery every other Thursday, Friday, and Saturday from August 1 through October 31. The area will close when the remaining combined spring all-depth fishery and summer all-depth fishery allocations in the Oregon Central Coast subarea is not sufficient for another full day of fishing. Any closure will be announced in accordance with Federal regulations at 50 CFR 300.63(c)(3) and on the NMFS hotline at (206) 526-6667 or (800) 662-9825.

NMFS may take inseason action to reopen the summer all-depth fishery if sufficient subarea allocation remains for additional fishing days after the first scheduled open period, August 2-3. If, after August 3, 60,000 lbs (27.2 metric tons (mt)) or more remains from the combined nearshore, spring all-depth, and summer all-depth fishery allocations, NMFS may take inseason action to reopen the summer all-depth fishery every Thursday, Friday, and Saturday beginning August 15 and/or allow fishing up to 7 days a week beginning September 1 through October 31 or until there is not sufficient subarea allocation remaining for another full day of fishing, at which point the fishery will be closed. If, after September 3, 30,000 lbs (13.6 mt) or greater remains from the combined nearshore, spring all-depth, and summer all-depth fishery allocations and the summer all-depth fishery is not already open every Thursday, Friday and Saturday, NMFS may take inseason action to reopen the summer all-depth fishery every Thursday, Friday, and Saturday beginning September 5 through October 31 until there is not sufficient subarea allocation for another full day of fishing, at which point the area will be closed. NMFS will announce when the summer all-depth fishery will reopen and the bag limit in accordance with Federal procedures at 50 CFR 300.63(c) and on the NMFS hotline (206) 526-6667 or (800) 662-9825.

(b) The daily bag limit is one Pacific halibut of any size per person. If the Central Oregon Coast subarea allocation (all-depth and nearshore combined) is 200,000 lbs (90.7 mt) or greater, NMFS may take inseason action to set the daily bag limit at two fish per day. NMFS will announce bag limits in accordance with Federal procedures at 50 CFR 300.63(c) and on the NMFS hotline (206) 526-6667 or (800) 662-9825.

Southern Oregon Coast Subarea

The allocation for landings into ports in the Southern Oregon subarea will be provided in the final rule based on the allocation formula in the Catch Sharing Plan.

(a) NMFS is proposing to open the fishery May 1 through October 31 or until there is not sufficient subarea allocation for another full day of fishing, at which point the area will be closed. Any closure will be announced in accordance with Federal regulations at 50 CFR 300.63(c)(3) and on the NMFS hotline at (206) 526-6667 or (800) 662-9825.

(b) The daily bag limit is one Pacific halibut of any size per person unless otherwise specified through inseason action. NMFS will announce any bag limit changes in accordance with Federal procedures at 50 CFR 300.63(c) and on the NMFS hotline (206) 526-6667 or (800) 662-9825.

Northern California Coast Subarea

The Northern California Coast subarea is located south of the OR/CA border (42°00.00′ N lat.) to Point Arena (38°57.5′ N lat.). The allocation for landings into ports in the Northern California Coast subarea will be provided in the final rule based on the allocation formula in the Catch Sharing Plan.

(a) NMFS is proposing to open the fishery May 1 through November 15 or until there is not sufficient subarea allocation for another full day of fishing, at which point the area will be closed. NMFS will announce any closure in accordance with Federal procedures at 50 CFR 300.63(c) and on the NMFS hotline (206) 526-6667 or (800) 662-9825.

(b) The daily bag limit is one Pacific halibut of any size per person.

South of Point Arena Subarea

The South of Point Arena subarea is located south of Point Arena (38°57.5′ N lat.) to the U.S./Mexico border. The allocation for landings into ports in the South of Point Arena subarea will be provided in the final rule based on the allocation formula in the Catch Sharing Plan.

(a) NMFS is proposing to open the fishery May 1 through December 31 or until there is not sufficient subarea allocation for another full day of fishing, at which point the area will be closed. NMFS will announce any closure in accordance with Federal procedures at 50 CFR 300.63(c)(3) and on the NMFS hotline (206) 526-6667 or (800) 662-9825.

(b) The daily bag limit is one Pacific halibut of any size per person.

Additional Recreational Management Measures

In addition to the state-specific recreational fishing measures described above, NMFS also proposes to create a new management provision that would allow NMFS to take inseason action to reallocate or transfer anticipated uncaught recreational fishery allocation ¹ between states for 2024 and beyond. At the June 2023 Council meeting, it was identified that, in recent years, under-attainment of the state recreational fishery allocations has occurred. During the same meeting, the Groundfish Advisory Subpanel and the Salmon Advisory Subpanel supported the development of an inseason management provision that would allow for transfer of the unused recreational fishery allocation between all the states to better utilize the Area 2A FCEY.

¹ Recreational subarea allocations are in net pounds, the weight of Pacific halibut that is without gill and entrails, head-off, washed and without slime and ice.

While each year NMFS, in working with the Council and states, establishes state-specific season structures and management measures intended to fully attain the state's recreational fishery allocation and management objectives, partial attainment of a state recreational fishery allocation may occur, which contributes to lower attainment of the overall Area 2A FCEY. Certain existing inseason action provisions were intended as tools to achieve full attainment, such as modifying bag limits or the transfer of uncaught allocations within the Washington subareas and from the Columbia River subarea to other Washington and Oregon subareas as specified at 50 CFR 300.63(c)(6). However, under-attainment of the state recreational fishery allocations has still occurred despite these efforts to modify management measures inseason to meet the needs of the fishery.

To address under-attainment of the state recreational fishery allocations, the Council, states, and advisory bodies, through the Council's public process at the September and November 2023 meetings, developed the framework for a new type of inseason action to transfer anticipated uncaught recreational allocation between states for greater utilization of overall Area 2A recreational allocation by providing additional angler opportunity across a larger portion of the coast later in the season. This framework was included in the recommendation to NMFS as part of the 2024 recreational fishery management measures.

Under this proposed inseason action provision, if, through consultation with an applicable state, NMFS determines that a state will be unable or unlikely to attain their originally established recreational allocation for that fishing year, then NMFS may transfer any anticipated uncaught recreational fishery allocation between states. Under such a scenario, NMFS would reallocate the net pounds available equally to each of the other two states. Should one state decline any portion of the additional allocation or NMFS determined that a receiving state would not be able to fully utilize the additional allocation, a portion or the full amount of the anticipated uncaught recreational fishery subarea allocation would go to the remaining state. NMFS will announce any inseason action in accordance with Federal procedures at 50 CFR 300.63(c)(6) and on the NMFS hotline (206) 526-6667 or (800) 662-9825.

At the September and November Council meetings CDFW proposed, and Council subsequently recommended to NMFS, to establish a new management line at Point Arena, CA (38°57.5′ N lat.) and create two subareas off California. The area between the OR/CA border (42°00.00′ N lat.) and Point Arena would be called the Northern California Coast subarea. The area south of Point Arena would be called the South of Point Arena subarea. The area represented by the proposed Northern California Coast subarea is where the majority of targeted recreational fishing for Pacific halibut occurs off California. The intent of proposing the new South of Point Arena subarea is to be able to structure management in this area to better accommodate the de minimis retention of Pacific halibut catch that occurs in recreational fisheries not directly targeting Pacific halibut in this area. Additionally, the proposed season structure for the South of Point Arena subarea includes opening May 1 and closing December 31, or until there is not sufficient subarea allocation remaining for another full day of fishing and the area is therefore closed, and a one-fish daily bag and possession limit. This proposed closing date of December 31 is 46 days later in the year than has been past practice and what is proposed to be maintained for the Northern California Coast subarea, May 1 through November 15. NMFS would announce any closure in accordance with notice procedures at 50 CFR 300.63(c)(3) and on the NMFS hotline (206) 526-6667 or (800) 662-9825. The CDFW proposal and Council recommendation also includes a 500 lbs (0.23 mt) subarea allocation for the South of Point Arena subarea to be subtracted from the California recreational fishery allocation, with the remainder of the California recreational fishery allocation to be assigned to the Northern California Coast subarea.

The establishment of these two subareas, including the separate subarea allocations and closure dates, are intended to allow anglers along more of the California coast access to the California recreational allocation while reducing the potential for regulatory discarding. In recent years, the California recreational fishery has closed in late July/early August. During the summer Pacific halibut are known to be encountered in other non-Pacific halibut directed recreational fisheries in the proposed subarea south of Point Arena. Due to the California recreational fishery typically closing in early summer, these encountered fish must be released. By reserving a de minimis allocation to allow for retention in non-Pacific halibut directed recreational fisheries, the proposed subarea south of Point Arena is intended to prevent potential discard while maintaining the conservation of Pacific halibut and providing angler opportunity.

Classification

Under section 773 of the Halibut Act, the Pacific Fishery Management Council may develop, and the Secretary of Commerce may implement, regulations governing Pacific halibut fishing by U.S. fishermen in Area 2A that are in addition to, and not in conflict with, approved IPHC regulations (16 U.S.C. 773c(c)). The proposed rule is consistent with the Council and NMFS's authority under the Halibut Act.

This proposed rule has been determined to be not significant for purposes of Executive Order 12866.

The Chief Counsel for Regulation of the Department of Commerce certified to the Chief Counsel for Advocacy of the Small Business Administration that this proposed rule, if adopted, would not have a significant economic impact on a substantial number of small entities, for the following reasons:

For Regulatory Flexibility Act (RFA) purposes only, NMFS has determined that charter boats targeting Pacific halibut are all small businesses. Charter fishing operations are classified under NAICS code 487210, with a corresponding Small Business Association size standard of $14 million in annual receipts (13 CFR 121.201).

This proposed rule would revise various recreational fishing management measures, add an inseason mechanism to transfer anticipated uncaught recreational fishery allocation between states, and establish a new management line at Point Arena, CA, creating two subareas with separate allocations within California. This proposed rule would open the recreational fishery with 2024 season dates and subarea allocations impacting charter boats, anglers, and businesses relying on recreational fishing across all of Area 2A. These changes were uncontroversial throughout the Council's public process, and overall participation in the recreational fisheries is not expected to change. There are no large entities involved in the Pacific halibut fisheries off the West Coast. Since this action will only impact recreational charter vessels in Area 2A (no commercial fishing entities are directly affected by this rule), which are small entities, none of these changes will have a disproportionately negative effect on small entities versus large entities. Private vessels used for recreational fishing are not businesses and are therefore not included in the RFA analysis.

In 2023, NMFS issued 136 licenses to the charter boat fleet for Area 2A. Recent information on charter boat activity is not available; however, historically, approximately 60 percent of charter boat license holders have participated in the Pacific halibut recreational fishery. Thus, based on historical information, NMFS assumes a majority of license holders may be affected by these regulations as those vessels operate in Area 2A. The major effect of Pacific halibut management on small entities (i.e., profitability) will be from the catch limit decisions (i.e., FCEYs) made by the IPHC at its annual meeting January 22-26, 2024, a decision independent from this proposed action. This proposed action would implement non-controversial management measures that NMFS believes will provide increased recreational opportunities under the IPHC allocations with minimal positive economic effects. Therefore, the proposed rule is unlikely to affect the profitability of the recreational fishery or the small charter fishing businesses that target Pacific halibut.

For the reasons described above, the proposed action, if adopted, will not have a significant economic impact on a substantial number of small entities. As a result, an initial regulatory flexibility analysis is not required and none has been prepared.

This proposed rule contains no information collection requirements under the Paperwork Reduction Act of 1995.

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: January 30, 2024.
Samuel D. Rauch III,
Deputy Assistant Administrator for Regulatory Programs, National Marine Fisheries Service.

For the reasons set out in the preamble, NMFS proposes to amend 50 CFR part 300, subpart E, as follows:

PART 300—INTERNATIONAL FISHERIES REGULATIONS

Subpart E—Pacific Halibut Fisheries

1. The authority citation for part 300, subpart E, continues to read as follows:

Authority: 16 U.S.C. 773-773k.

2. In § 300.63 revise paragraphs (c)(5)(iii), (6)(i)(F), (ii)(E) through (G) to read as follows:

§ 300.63 Catch sharing plan and domestic management measures in Area 2A.

* * * * *

(c) * * *

(5) * * *

(iii) California. The California recreational fishery is divided into the following subareas:

(A) Northern California Coast Subarea. The Northern California Coast subarea is located south of the OR/CA border (42°00.00′ N lat.) to Point Arena (38°57.5′ N lat.).

(B) South of Point Arena Subarea. The South of Point Area subarea is located south of Point Arena (38°57.5′ N lat.) to the U.S./Mexico border.

(6) * * *

(i) * * *

(F) If any state is projected to not utilize its respective recreational allocation by the end of the fishing season, NMFS may take inseason action to transfer any projected unused allocation to another state. After a state notifies NMFS of the amount of their recreational subarea allocation in net pounds that is projected to be unused after accounting for state management objectives, NMFS may take inseason action to reallocate the amount of net pounds available equally to the other two states. If a state eligible to receive the additional pounds declines all or part of the additional pounds, or NMFS determines a state is unlikely to use additional allocation, a portion or the full amount of the remainder would go to the other state.

(ii) Inseason management provisions include, but are not limited to, the following:

* * * * *

(E) Modification of state recreational allocation, including a shift in recreational allocation from one state to another;

(F) Modification of subarea allocation; and

(G) Modification of the Stonewall Bank Yelloweye Rockfish Conservation Area (YRCA) restrictions off Oregon using YRCA expansions as defined in groundfish regulations at 50 CFR 660.70(g) or (h).

* * * * *

[FR Doc. 2024-02220 Filed 2-8-24; 8:45 am]

BILLING CODE 3510-22-P